DEPARTMENT OF COMMERCE

National Oceanic and Atmospheric Administration

Florida Keys National Marine Sanctuary Final Revised Management Plan; Notice of Availability

AGENCY: National Marine Sanctuary Program (NMSP), National Ocean Service (NOS), National Oceanic and Atmospheric Administration (NOAA), Department of Commerce (DOC).

ACTION: Notice of availability.

SUMMARY: The final revised management plan for the Florida Keys National Marine Sanctuary (FKNMS) has been approved and is now available. The plan is the result of a multi-year management plan review at the FKNMS that included extensive public, as well as state, local and other federal agency involvement. The plan is available for download on the Web site: http://floridakeys.noaa.gov. For a hard copy or data CD of the plan contact the sanctuary office at the contact number identified below.

DATES: The final revised management plan is available to the public on January 11, 2008.

FOR FURTHER INFORMATION CONTACT: Leigh Espy, Florida Keys National Marine Sanctuary, 33 East Quay Rd., Key West, Florida 33040; (305) 292-0311; Kknms5yearreview@noaa.gov.

(Federal Domestic Assistance Catalog Number 11.429 Marine Sanctuary Program)

Dated: January 3, 2008.
Daniel J. Basta,
Director, National Marine Sanctuary Program.

[FR Doc. 08-79 Filed 1-11-08; 8:45 am]

BILLING CODE 3510-NK-M